DEPARTMENT OF AGRICULTURE

Animal and Plant Health Inspection Service

[Docket No. 02-094-1]

Fiscal Year 2003 Reimbursable Overtime Charges and Veterinary Services User Fees

AGENCY: Animal and Plant Health Inspection Service, USDA.

ACTION: Notice.

SUMMARY: This notice pertains to reimbursable overtime charged for Sunday, holiday, or other overtime work performed by employees of the Animal and Plant Health Inspection Service in connection with the inspection, laboratory testing, certification, or quarantine of certain articles and to user fees for import- and export-related services that we provide for animals, animal products, birds, germ plasm, organisms, and vectors. The purpose of this notice is to remind the public of the reimbursable overtime charges and user fees for fiscal year 2003 (October 1, 2002, through September 30, 2003).

FOR FURTHER INFORMATION CONTACT: For information concerning Agricultural Quarantine and Inspection program operations, contact Mr. Colonel Locklear, Senior Staff Officer, PPQ, APHIS, 4700 River Road Unit 60, Riverdale, MD 20737-1236; (301) 734-8372.

For information concerning Veterinary Services program operations, contact Dr. Gary Colgrove, Chief Staff Veterinarian, National Center for Import and Export, VS, APHIS, 4700 River Road Unit 38, Riverdale, MD 20737-1231; (301) 734-8364.

For information concerning reimbursable overtime rate and user fee development, contact Ms. Kris Caraher, Accountant, User Fees Section, FSSB, FMD, MRP-BS, APHIS, 4700 River Road Unit 54, Riverdale, MD 20737-1232; (301) 734-8351.

SUPPLEMENTARY INFORMATION:

Reimbursable Overtime Charges

The regulations in 7 CFR chapter III and 9 CFR chapter I, subchapters D and G, require inspection, laboratory testing, certification, or quarantine of certain animals, poultry, animal byproducts, germ plasm, organisms, vectors, plants, plant products, or other regulated commodities or articles intended for importation into, or exportation from, the United States. With some exceptions, when these services must be provided by an Animal and Plant Health Inspection Service (APHIS) employee on a Sunday or on a holiday, or at any other time outside the APHIS employee's regular duty hours, the Government charges an hourly overtime fee for the services in accordance with 7 CFR part 354 and 9 CFR part 97.

In a final rule published in the Federal Register on July 25, 2002 (67 FR 48519-48525, Docket No. 00-087-2), and effective August 11, 2002, we established, for fiscal years 2002 through 2006 and beyond, reimbursable overtime rates for Sunday, holiday, or other overtime work performed by APHIS employees for any person, firm, or corporation having ownership, custody, or control of animals, poultry, animal byproducts, germ plasm, organisms, vectors, plants, plant products, or other regulated commodities or articles subject to inspection, laboratory testing, certification, or quarantine. In this document we are providing notice to the public of the reimbursable overtime fees for fiscal year 2003 (October 1, 2002, through September 30, 2003).

Under the regulations in 7 CFR 354.1(a) and 9 CFR 97.1(a), any person, firm, or corporation having ownership, custody, or control of plants, plant products, animals, animal byproducts, or other commodities or articles subject to inspection, laboratory testing, certification, or quarantine who requires the services of an APHIS employee on a Sunday or holiday, or at any other time outside the regular tour of duty of that employee, shall sufficiently in advance of the period of Sunday, holiday, or overtime service request the APHIS inspector in charge to furnish the service during the overtime or Sunday or holiday period, and shall, for fiscal year 2003, pay the Government at the rate listed in the following table:

Overtime for inspection, laboratory testing, certification, or quarantine of plants, plant products, animals, animal products or other regulated commodities: Outside the employee's normal tour of duty | Overtime for inspection, laboratory testing, certification, or quarantine of plants, plant products, animals, animal products or other regulated commodities: Overtime rates (per hour) Oct. 1, 2002-Sept. 30, 2003
Monday through Saturday and holidays | $46.00
Sundays | 61.00

As specified in 7 CFR 354.1(a)(1)(iii) and 9 CFR 97.1(a)(3), the overtime rates to be charged in fiscal year 2003 to owners or operators of aircraft at airports of entry or other places of inspection as a consequence of the operation of the aircraft, for work performed outside of the regularly established hours of service will be as follows:

Overtime for commercial airline inspection services ¹: Outside the employee's normal tour of duty | Overtime for commercial airline inspection services ¹: Overtime rates (per hour) Oct. 1, 2002-Sept. 30, 2003
Monday through Saturday and holidays | $37.00
Sundays | 49.00
¹ These charges exclude administrative overhead costs.

A minimum charge of 2 hours shall be made for any Sunday or holiday or unscheduled overtime duty performed by an employee on a day when no work was scheduled for him or her, or which is performed by an employee on his or her regular workday beginning either at least 1 hour before his or her scheduled tour of duty or which is not in direct continuation of the employee's regular tour of duty. In addition, each such period of Sunday or holiday or unscheduled overtime work to which the 2-hour minimum charge provision applies may include a commuted traveltime period (see 7 CFR 354.1(a)(2) and 9 CFR 97.1(b)).

User Fees for Import- and Export-Related Veterinary Services

APHIS charges user fees for import- and export-related veterinary services. The regulations in 9 CFR part 130 list user fees for import- and export-related services provided by APHIS for animals, animal products, birds, germ plasm, organisms, and vectors.

These user fees are authorized by section 2509(c)(1) of the Food, Agriculture, Conservation, and Trade Act of 1990, as amended (21 U.S.C. 136a). APHIS is authorized to establish and collect fees that will cover the cost of providing import- and export-related services for animals, animal products, birds, germ plasm, organisms, and vectors.

On August 28, 2000, we published in the Federal Register (65 FR 51997-52010, Docket No. 97-058-2) a final rule that amended the regulations in 9 CFR part 130 by adjusting our user fees for import- and export-related services that we provide for animals, animal products, birds, germ plasm, organisms, and vectors and by setting user fees for these services for fiscal years 2001 through 2004 and beyond. Additionally, on August 1, 2001, we published in the Federal Register (66 FR 39628-39632, Docket No. 99-060-2) another final rule that amended the regulations by updating some of the user fees in 9 CFR part 130. When we proposed to establish the user fees for fiscal years 2001 through 2004 and beyond, we stated that, prior to the beginning of each fiscal year, we would publish a notice to remind the public of the user fees for that fiscal year. This document provides notice to the public of the user fees for fiscal year 2003 (October 1, 2002, through September 30, 2003). The specific services and user fees are described below.

We provide standard and nonstandard housing, care, feed, and handling for individual animals and certain birds ¹ quarantined in APHIS-owned or -operated animal quarantine facilities, including APHIS Animal Import Centers. As specified in § 130.2(a), the daily user fee for each animal or bird quarantined in APHIS-owned or -operated animal quarantine facilities receiving standard housing, care, feed, and handling for fiscal year 2003 will be as follows:

¹ Those animals and birds subject to quarantine are specified in 9 CFR, chapter I, subchapter D of the regulations.

Animal or bird | User fee— Oct. 1, 2002- Sept. 30, 2003
Birds (excluding ratites and pet birds imported in accordance with 9 CFR part 93):
0-250 grams | $1.50
251-1,000 grams | 5.50
Over 1,000 grams | 13.00
Domestic or zoo animals (except equines, birds, and poultry):
Bison, bulls, camels, cattle, or zoo animals | 100.00
All others, including, but not limited to, alpacas, llamas, goats, sheep, and swine | 26.00
Equines (including zoo equines, but excluding miniature horses):
1st through 3rd day (fee per day) | 264.00
4th through 7th day (fee per day) | 191.00
8th and subsequent days (fee per day) | 162.00
Miniature horses | 60.00
Poultry (including zoo poultry):
Doves, pigeons, quail | 3.25
Chickens, ducks, grouse, guinea fowl, partridge, pea fowl, pheasants | 6.25
Large poultry and large waterfowl, including, but not limited to game cocks, geese, swans, and turkeys | 14.00
Ratites:
Chicks (less than 3 months old) | 9.00
Juveniles (3 months through 10 months old) | 14.00
Adults (11 months old and older) | 26.00

Certain conditions or traits, such as aggression, may necessitate special requirements for certain birds or poultry. Birds and poultry receiving nonstandard housing, care, feed, or handling to meet special requirements may receive those services while quarantined in an APHIS-owned or-operated quarantine facility at the request of an importer or as required by an APHIS representative. As specified in § 130.2(b), the daily user fee for each bird or poultry receiving nonstandard housing, care, or handling while quarantined in an APHIS-owned or-operated animal quarantine facility for fiscal year 2003 is $5.50 for birds weighing 250 grams or less, and doves, pigeons, and quail; $13 for birds weighing 251 to 1,000 grams and poultry such as chickens, ducks, grouse, guinea fowl, partridge, pea fowl, and pheasants; and $25 for birds over 1,000 grams and large poultry and large waterfowl, including, but not limited to game cocks, geese, swans, and turkeys. As specified in § 130.2(c), importers of animals or birds that require a diet other than standard feed must either provide feed or pay APHIS for feed on an actual cost basis, including the cost of delivery to the APHIS-owned or -operated animal import center or quarantine facility.

We accept requests from importers to exclusively occupy a space at an APHIS animal import center. As specified in § 130.3(a)(1), the monthly user fee for exclusive use of space at the APHIS animal import center in Newburgh, NY, for fiscal year 2003 is $57,630 to occupy a space 5,396 square feet in size, $95,085 for a space 8,903 square feet in size, and $9,666 for a space 905 square feet in size. The fees listed in § 130.3(a)(1) cover all costs of quarantine ² except feed. The importer either provides the feed or pays for it on an actual cost basis, including the cost of delivery.

² Section 130.3(a)(2) and 130.3(c) specifies that additional user fees will be charged to importers for occupancy of space for more than 30 days or nonstandard handling or care of animals or birds.

We process applications for permits to import and transport certain animals, animal products, organisms, vectors, and germ plasm.³ As specified in § 130.4, the user fees for processing import permit applications for certain animals, animal products, organisms, vectors, and germ plasm during fiscal year 2003 will be as follows:

³ Those animal products, organisms, vectors, and germ plasm that require permits for importation into the United States are specified in 9 CFR, chapter I, subchapter D of the regulations.

Service | Unit | User fee— October 1, 2002- Sept. 30, 2003
Import compliance assistance:
Simple (2 hours or less) | Per release | $68.00
Complicated (more than 2 hours) | Per release | 174.00
Processing an application for a permit to import live animals, animal products or byproducts, organisms, vectors, or germ plasm (embryos or semen) or to transport organisms or vectors¹:
Initial permit | Per application | 94.00
Amended permit | Per amended application | 47.00
Renewed permit ² | Per application | 61.00
Processing an application for a permit to import fetal bovine serum when facility inspection is required | Per application | 322.00
¹ Using Veterinary Services Form 16-3 “Application for Permit to Import or Transport Controlled Material or Organisms or Vectors,” or Form 17-129, “Application for Import or In Transit Permit (Animals, Animal Semen, Animal Embryos, Birds, Poultry, or Hatching Eggs).”
² Permits to import germ plasm and live animals are not renewable.

We inspect live animals presented for importation or entry into the United States through a land border port along the United States-Mexico border. As specified in § 130.6(a), the user fees for inspection of live animals at land border ports along the United States-Mexico border for fiscal year 2003 will be as listed in the following table:

Type of live animal | Per head user fee— Oct. 1, 2002- Sept. 30, 2003
Any ruminants (including breeder ruminants) not covered below | $8.75
Feeder | 2.50
Horses, other than slaughter | 43.00
In-bond or in-transit | 5.50
Slaughter | 3.75

We also inspect live animals presented for importation into or entry into the United States through a land border port along the United States-Canada border. As specified in § 130.7(a), user fees for import or entry services for live animals at land border ports along the United States-Canada border for fiscal year 2003 will be as follows:

Type of live animal | Unit | User fee— Oct. 1, 2002- Sept. 30, 2003
Animals being imported into the United States:
Breeding animals (grade animals, except horses):
Sheep and goats | Per head | $0.50
Swine | Per head | 0.75
All others | Per head | 3.25
Feeder animals:
Cattle (not including calves) | Per head | 1.50
Sheep and calves | Per head | 0.50
Swine | Per head | 0.25
Horses (including registered horses), other than slaughter and in-transit | Per head | 28.00
Poultry (including eggs), imported for any purpose | Per load | 48.00
Registered animals (except horses) | Per head | 5.75
Slaughter animals (except poultry) | Per load | 24.00
Animals transiting ¹ the United States:
Cattle | Per head | 1.50
Sheep and goats | Per head | 0.25
Swine | Per head | 0.25
Horses and all other animals | Per head | 6.75
¹ The user fee in this section will be charged for in-transit authorizations at the port where the authorization services are performed. For additional services provided by APHIS, at any port, the hourly user fee rate in § 130.30 will apply.

We provide a variety of other services related to the importation into or exportation from the United States of animals, animal products, birds, germ plasm, organisms, and vectors. As specified in § 130.8(a), user fees for those import-or export-related services during fiscal year 2003 are as follows:

Service | Unit | User Fee— Oct. 1, 2002- Sept. 30, 2003
Germ plasm being exported: ¹
Embryo:
Up to 5 donor pairs | Per certificate | $81.00
Each additional group of donor pairs, up to 5 pairs group, on the same certificate | Per group of donor pairs | 36.00
Semen | Per certificate | 49.00
Release from export agricultural hold:
Simple (2 hours or less) | Per release | 68.00
Complicated (more than 2 hours) | Per release | 174.00
¹ This user fee includes a single inspection and resealing of the container at the APHIS employee's regular tour of duty station or at a limited port. For each subsequent inspection and resealing required, the hourly user fee in § 130.30 will apply.

We inspect lots of pet birds ⁴ of U.S. origin returning to the United States. As specified in § 130.10(a), user fees for the inspection of pet birds of U.S. origin returning to the United States, except pet birds of U.S. origin returning from Canada, during fiscal year 2003 are $105 per lot of birds which have been out of the United States for 60 days or less, and $250 per lot of pet birds which have been out of the United States for more than 60 days.

⁴ Provisions for the importation of pet birds into the United States are specified in 9 CFR, chapter I, subchapter D of the regulations.

We also provide housing, care, feed, and handling for pet birds quarantined in APHIS-owned or -supervised quarantine facilities. The daily user fee to quarantine pet birds applies per isolette and varies based on the number of pet birds determined by an APHIS representative to be appropriate per isolette. All the birds quarantined in one isolette are covered by one fee, which is assessed daily for the duration of the quarantine. As specified in § 130.10(b), the daily user fee for each pet bird quarantined in an APHIS-owned or supervised quarantine facility for fiscal year 2003 is $9 for one pet bird quarantined in one isolette, $11 for two pet birds quarantined in one isolette, $13 for three pet birds quarantined in one isolette, $15 for four pet birds quarantined in one isolette, and $17 for five pet birds quarantined in one isolette.

We inspect and approve various import and export facilities and establishments.⁵ As specified in § 130.11, the user fees for inspecting and approving import and export facilities and establishments during fiscal year 2003 will be as listed in the following table:

⁵ Requirements for the inspection and approval of various quarantine facilities are specified in 9 CFR, chapter I, subchapter D of the regulations.

Service | Unit | User Fee— Oct. 1, 2002- Sept. 30, 2003
Embryo collection center inspection and approval (all inspections required during the year for facility approval) | Per year | $369.00
Inspection for approval of biosecurity level three laboratories (all inspections related to approving the laboratory for handling one defined set of organisms or vectors) | Per inspection | 977.00
Inspection for approval of pet food manufacturing, rendering, blending, or digest facilities:
Initial approval | For all inspections required during the year | 404.75
Renewal | For all inspections required during the year | 289.00
Inspection for approval of pet food spraying and drying facilities:
Initial approval | For all inspections required during the year | 275.00
Renewal | For all inspections required during the year | 162.00
Inspection for approval of slaughter establishment:
Initial approval (all inspections) | Per year | 362.00
Renewal (all inspections) | Per year | 314.00
Inspection of approved establishments, warehouses, and facilities under 9 CFR parts 94 through 96:
Approval (compliance agreement) (all inspections for first year of 3-year approval) | Per year | 386.00
Renewed approval (all inspections for second and third years of 3-year approval) | Per year | 223.00

We endorse export health certificates for animals, birds, or animal products.⁶ As specified in § 130.20(a), the user fees for each export health certificate endorsed for animals, birds, or animal products that do not require the verification of tests or vaccinations, regardless of the number of animals, birds, or animal products covered by the certificate, will be $31 for animal and nonanimal products, $29 for hatching eggs, $29 for poultry, including slaughter poultry, $34 for slaughter animals (except poultry) moving to Canada or Mexico, and $23 for other endorsements or certifications during fiscal year 2003.

⁶ Those animals, birds, or animal products that require export health certificates are specified in 9 CFR, chapter I, subchapter D of the regulations.

We also endorse export health certificates for animals, birds, or animal products that require verification of tests or vaccinations. The user fees for these certificates apply to each export health certificate endorsed for animals and birds, depending on the number of animals or birds covered by the certificate and the number of tests or vaccinations required. As specified in § 130.20(b), the user fees for each export health certificate endorsed for animals and birds for fiscal year 2003 is as follows:

Number of tests or vaccinations and Number of animals or birds on the certificate | User fee— Oct. 1, 2002- Sept. 30, 2003
1-2 tests or vaccinations
Nonslaughter horses to Canada:
First animal | $37.00
Each additional animal | 4.25
Other animals or birds:
First animal | 74.00
Each additional animal | 4.25
3-6 tests or vaccinations
First animal | 91.00
Each additional animal | 7.00
7 or more tests or vaccinations
First animal | 106.00
Each additional animal | 8.25

We provide certain import-or export-related veterinary services at hourly rates ⁷ that may be performed during and outside of regularly established hours of service. As specified in § 130.30(a), the user fees in fiscal year 2003 for import-or export-related hourly veterinary services performed during regularly established hours of service, except those services covered by flat rate user fees, will be $84 per hour or $21 per quarter hour for each APHIS employee; the per service minimum fee is $24. When the import-or export-related veterinary services listed in § 130.30(a)(1) through (a)(13) are performed on a Sunday, holiday, or at any time outside of an APHIS employee's normal tour of duty, a premium rate user fee is charged. As specified in § 130.30(b), the user fees in fiscal year 2003 for hourly veterinary services provided at any time outside an employee's normal tour of duty Monday through Saturday and on holidays will be $96 per hour or $24 per quarter hour for each APHIS employee, and the user fees for hourly veterinary services provided on a Sunday will be $108 per hour or $27 per quarter hour for each APHIS employee.

⁷ Section 130.30 (a)(1) through (a)(13) lists import-or export-related veterinary services that are calculated at hourly rates for each APHIS employee required to perform the service.

Users who request import- or export-related services that are covered by flat rate user fees on a Sunday, holiday, or any time outside of an APHIS employee's normal tour of duty, and who are subject to the overtime rates set forth in 7 CFR 354.1 or 9 CFR 97.1, are charged the hourly overtime rates set out in § 130.50(b)(3)(i) in addition to the flat rate user fees. For fiscal year 2003, the overtime rates charged to users who request flat rate user fee services are as follows:

Overtime for Flat Rate User Fees ¹, ²
| Outside of the employee's normal tour of duty | Overtime rates (per hour) Oct. 1, 2002- Sept. 30, 2003
Rate for inspection, testing, certification or quarantine of animals, and animal products or other commodities (See 7 CFR 354.3 or 9 CFR 97.1(a) for details.) | Monday-Saturday holidays | $46.00
| Sundays | 61.00
Rate for commercial airline inspection services (See 9 CFR 97.1(a)(3) for details.) | Monday-Saturday and holidays | 37.00
| Sundays | 49.00
¹ Minimum charge of 2 hours, unless performed on the employee's regular workday and performed in direct continuation of the regular workday or begun within an hour of the regular workday.
² When the 2-hour minimum applies, you may need to pay commuted travel time. (See 9 CFR 97.1(b) for specific information about commuted travel time.)

Done in Washington, DC, this 16th day of October 2002.
Peter Fernandez,
Acting Administrator, Animal and Plant Health Inspection Service.

[FR Doc. 02-26815 Filed 10-21-02; 8:45 am]

BILLING CODE 3410-34-P